ENVIRONMENTAL PROTECTION AGENCY

[FRL-9920-94-OA]

Notification of a Public Teleconference of the Science Advisory Board Chemical Assessment Advisory Committee Augmented for the Review of EPA's Draft Trimethylbenzenes Assessment

AGENCY: Environmental Protection Agency.

ACTION: Notice.

SUMMARY: The Environmental Protection Agency (EPA) Science Advisory Board (SAB) Staff Office announces a public teleconference of the SAB Chemical Assessment Advisory Committee Augmented for the Review of the Draft Trimethylbenzenes Assessment (CAAC-TMB Panel) to reach consensus on it draft peer review of EPA's draft Integrated Risk Information System (IRIS) Toxicological Review of Trimethylbenzenes (August 2013 Revised External Review Draft).

DATES: The public teleconference will be held on Thursday, January 29, 2015. The teleconference will be held from 2:00 p.m. to 5:00 p.m. (Eastern Standard Time).

Location: The teleconference will be conducted by telephone only.

FOR FURTHER INFORMATION CONTACT: Any member of the public who wants further information concerning the teleconference may contact Mr. Thomas Carpenter, Designated Federal Officer (DFO), EPA Science Advisory Board (1400R), U.S. Environmental Protection Agency, 1200 Pennsylvania Avenue NW., Washington, DC 20460; via telephone/voice mail (202) 564-4885; fax (202) 565-2098; or email at carpenter.thomas@epa.gov. General information concerning the SAB can be found on the SAB Web site at http://www.epa.gov/sab.

SUPPLEMENTARY INFORMATION: Background: Pursuant to the Federal Advisory Committee Act (FACA), as amended, 5 U.S.C., App., notice is hereby given that the SAB CAAC-TMB Panel will hold a public teleconference to reach consensus on its draft report on the IRIS Toxicological Review of Trimethylbenzenes (August 2013 Revised External Review Draft) and enhancements the agency is implementing to the IRIS program.

The SAB was established pursuant to 42 U.S.C. 4365 to provide independent scientific and technical advice to the Administrator on the technical basis for Agency positions and regulations. The SAB is a federal advisory committee chartered under FACA. The SAB will comply with the provisions of FACA and all appropriate SAB Staff Office procedural policies.

The SAB CAAC-TMB Panel held a public meeting on June 17-19, 2014. The purpose of that meeting was to receive a briefing on the EPA's enhancements to the IRIS Program and to develop responses to the peer review charge on the agency's draft IRIS Toxicological Review of Trimethylbenzenes (August 2013 Revised External Review Draft). The SAB CAAC TMB Panel held teleconferences on November 5 and 7, 2014, to discuss and revise its draft report. The purpose of this public teleconference is for the Panel to reach consensus on a draft report entitled Science Advisory Board Review of the IRIS Draft (12/22/2014) Toxicological Review of Trimethylbenzenes.

Availability of Meeting Materials: Additional background on this SAB activity, the teleconference agenda, draft panel report, and other materials for the teleconferences will be posted on the SAB Web site at http://yosemite.epa.gov/sab/sabproduct.nsf/fedrgstr_activites/IRIS%20Trimethylbenzenes?OpenDocument.

Procedures for Providing Public Input: Public comment for consideration by EPA's federal advisory committees and panels has a different purpose from public comment provided to EPA program offices. Therefore, the process for submitting comments to a federal advisory committee is different from the process used to submit comments to an EPA program office. Federal advisory committees and panels, including scientific advisory committees, provide independent advice to the EPA. Members of the public can submit relevant comments pertaining to the group conducting this SAB activity or the meeting materials. Input from the public to the SAB will have the most impact if it consists of comments that provide specific scientific or technical information or analysis for the SAB to consider. Members of the public wishing to provide comment should contact the Mr. Thomas Carpenter at the contact information provided above.

Oral Statements: In general, individuals or groups requesting an oral presentation at a public teleconference will be limited to three minutes per speaker. To be placed on the list of registered speakers for the January 29, 2015, teleconference, interested parties should notify Mr. Thomas Carpenter, DFO, by email no later than January 21, 2015.

Written Statements: Written statements to be provided to the panel for the teleconference should be provided to the DFO, preferably via email, by January 29, 2015. It is the SAB Staff Office general policy to post written comments on the Web page for the advisory meeting or teleconference. Submitters are requested to provide an unsigned version of each document because the SAB Staff Office does not publish documents with signatures on its Web sites. Members of the public should be aware that their personal contact information, if included in any written comments, may be posted to the SAB Web site. Copyrighted material will not be posted without explicit permission of the copyright holder.

Accessibility: For information on access or services for individuals with disabilities, please contact Mr. Carpenter at the phone number or email address noted above, preferably at least ten days prior to the teleconference, to give the EPA as much time as possible to process your request.

Dated: December 18, 2014.
Thomas H. Brennan,
Deputy Director, EPA Science Advisory Board Staff Office.

[FR Doc. 2014-30604 Filed 12-29-14; 8:45 am]

BILLING CODE 6560-50-P